DEPARTMENT OF HOMELAND SECURITY

Coast Guard

[Docket No. USCG-2024-0731]

Certificates of Alternative Compliance for the Eighth Coast Guard District

AGENCY: Coast Guard, DHS.

ACTION: Notification of issuance of certificates of alternative compliance.

SUMMARY: The Coast Guard announces that the Eighth Coast Guard District's Prevention Division has issued certificates of alternative compliance from the International Regulations for Preventing Collisions at Sea, 1972 (72 COLREGS), to vessels of special construction or purpose that cannot fully comply with the light, shape, and sound signal provisions of 72 COLREGS without interfering with the vessel's design and construction. We are issuing this notice because its publication is required by statute. This notification of issuance of certificates of alternative compliance promotes the Coast Guard's marine safety mission.

DATES: These Certificates of Alternative Compliance were issued between January 2024 and July 2024.

FOR FURTHER INFORMATION CONTACT: For information or questions about this notice call or email Lieutenant Jenifer Abiona, District Eight, Prevention Division, U.S. Coast Guard, telephone 206-827-2691, email Jenifer.V.Abiona@uscg.mil.

SUPPLEMENTARY INFORMATION: The United States is signatory to the International Maritime Organization's International Regulations for Preventing Collisions at Sea, 1972 (72 COLREGS), as amended. The special construction or purpose of some vessels makes them unable to comply with the light, shape, or sound signal provisions of the 72 COLREGS. Under statutory law, however, specified 72 COLREGS provisions are not applicable to a vessel of special construction or purpose if the Coast Guard determines that the vessel cannot comply fully with those requirements without interfering with the special function of the vessel.¹

¹ 33 U.S.C. 1605.

The owner, builder, operator, or agent of a special construction or purpose vessel may apply to the Coast Guard District Office in which the vessel is being built or operated for a determination that compliance with alternative requirements is justified,² and the Chief of the Prevention Division would then issue the applicant a certificate of alternative compliance (COAC) if he or she determines that the vessel cannot comply fully with 72 COLREGS light, shape, and sound signal provisions without interference with the vessel's special function.³ If the Coast Guard issues a COAC, it must publish notice of this action in the Federal Register.⁴

² 33 CFR 81.5.

³ 33 CFR 81.9.

⁴ 33 U.S.C. 1605(c) and 33 CFR 81.18.

The Eighth Coast Guard District has issued COACs to the following vessels from January 2024 to July 2024:

Year | Vessel name | Details
2024 | MAY LOUISE | This certificate authorized the placement of the vessel's masthead light 22′-7⅛″ above the main deck when the mast is in the lowered position; sidelights on the elevated pilot house 10′-1″ outboard from the centerline of the vessel; Restricted in Ability to Maneuver and Not Under Command lights 1′-6″ off centerline starting 25′-5⅛″ above the hull and vertically spaced 6′-7″; and stern lights—based on dual direction operational towing vessel: on the aft portion of the pilot house at a height no less than nor exceeding 22′-7⅛″ for ahead operations (e.g., pushing, hauling alongside, and pulling); and on the main mast at a height no less than nor exceeding 27′-9⅝″ for astern direction for astern operations (e.g., towing).
2024 | VOYAGER | This certificate authorized the placement of the vessel's after masthead light on the main mast, 20′-11½″ aft and 27′-3⅛″ above the forward masthead light; sidelights on the pilot house 21′-6″ outboard from the centerline of the vessel; Restricted in Ability to Maneuver and Not Under Command lights 1′-4¼″ off centerline starting 52′-6¾″ above the hull and vertically spaced 7′-10″ and 6′-7″; and the stern light on the starboard bulwark at a height no less than nor exceeding and 4′-2″ as measured from the main deck.
2024 | SP DIAMOND | This certificate authorized the placement of the vessel's sidelights on the elevated pilothouse, positioned 22′-3 3/16″ above the main deck, 16′-5 11/16″ inboard from the side of the vessel, and 3′-8 3/16″ forward of the forward masthead light; stern light centered on the aft side of the pilot house, 1′-4 1/16″ forward of amidships and 40′-5¼″ above the main deck; and Restricted in Ability to Maneuver (RAM) and Not Under Command (NUC) Lights 3′-3⅜″ outboard from centerline starting at a height of 34′-9 13/16″ above the main deck with vertical spacing between the RAM/NUC lights being 7′-2⅝″.
2024 | SP RUBY | This certificate authorized the placement of the vessel's sidelights on the elevated pilothouse, positioned 22′-3 3/16″ above the main deck, 16′-5 11/16″ inboard from the side of the vessel, and 3′-8 3/16″ forward of the forward masthead light; stern light centered on the aft side of the pilot house, 1′-4 1/16″ forward of amidships and 40′-5¼″ above the main deck; and Restricted in Ability to Maneuver (RAM) and Not Under Command (NUC) Lights 3′-3⅜″ outboard from centerline starting at a height of 34′-9 13/16″ above the main deck with vertical spacing between the RAM/NUC lights being 7′-2⅝″.
2024 | TAANI | This certificate authorized the placement of the vessel's forward masthead light and second/aft masthead light separated by a horizontal distance of no less than 86′-3⅛″; and the stern light on the furthest aft portion of the main structure (03 Level) clear of the aft equipment and work deck area at a height no less than nor exceeding 27′-3¾″ as measured from the main deck.
2024 | NARRAGANSETT DAWN | This certificate authorized the placement of the vessel's forward masthead light and second/aft masthead light separated by a horizontal distance of no less than 86′-3⅛″; and the stern light on the furthest aft portion of the main structure (03 Level) clear of the aft equipment and work deck area at a height no less than nor exceeding 27′-3¾″ as measured from the main deck.
2024 | GILBERT R MASON | This certificate authorized the placement of the vessel's forward masthead light and second/aft masthead light separated by a horizontal distance of no less than 86′-3⅛″; and the stern light on the furthest aft portion of the main structure (03 Level) clear of the aft equipment and work deck area at a height no less than nor exceeding 27′-3¾″ as measured from the main deck.
2024 | ECO EDISON | This certificate authorized the placement of the vessel's forward masthead light on the elevated pilothouse, centerline, positioned 76′-3 9/16″ aft of the vessels bow, 95′-3⅝″ above the main deck; and aft masthead light positioned centerline, placed 71′-7 13/16″ aft of the forward masthead light, and 46′-3 5/16″ above the forward masthead light.
2024 | PATRICIA B. MORAN | This certificate authorized the placement of the vessel's sidelights on the elevated pilothouse, positioned 12′ from the side of the vessel, and 19′-6 13/16″ above the main deck; Stern light aft side of the elevated pilothouse, 1′-4″ starboard of centerline and 20′-10⅛″ above the main deck; masthead light centerline on the elevated pilothouse, 39′ above the main deck when upright, and 25′-10⅜″ above the main deck when mast is in the lowered position during ship assist work in order to prevent damage when working in close proximity to a ship's bow/stern flare; and restricted in ability to maneuver (RAM) and not under command (NUC) lights rather placing these lights on the centerline in a vertical line with the masthead lights, they may be placed 1′-3″ forward of the masthead lights starting at a height of 27′-6 1/16″ above the main deck with vertical spacing between the RAM/NUC lights being 3′-3⅜″.
2024 | FRED | This certificate authorized the placement of the vessel's sidelights on the elevated pilothouse, 22′-3 3/16″ above the main deck, 16′-5 11/16″ inboard from the sides of the vessel, and 3′-8 3/16″ forward of the forward masthead light; stern light centered on the aft of the pilot house, 1′-4 1/16″ forward of amidships, and 40′-5¼″ above the main deck; and restricted in ability to maneuver (RAM) and not under command (NUC) lights—rather than placing these lights on the centerline in a vertical line with the masthead lights, they may be placed 3′-3⅜″ outboard from the centerline, starting at a height of 34′-9 13/16″ above the main deck with vertical spacing between the RAM/NUC lights being 7′-2⅝″.
2024 | JOSEPHINE | This certificate authorized the placement of the vessel's sidelights on the elevated pilothouse, 22′-3 3/16″ above the main deck, 16′-5 11/16″ inboard from the sides of the vessel, and 3′-8 3/16″ forward of the forward masthead light; stern light centered on the aft of the pilot house, 1′-4 1/16″ forward of amidships, and 40′-5¼″ above the main deck; and restricted in ability to maneuver (RAM) and not under command (NUC) lights rather than placing these lights on the centerline in a vertical line with the masthead lights, they may be placed 3′-3⅜″ outboard from the centerline, starting at a height of 34′-9 13/16″ above the main deck with vertical spacing between the RAM/NUC lights being 7′-2⅝″.
2024 | MOOSE | This certificate authorized the placement of the vessel's sidelights on the elevated pilothouse, 22′-3 3/16″ above the main deck, 16′-5 11/16″ inboard from the sides of the vessel, and 3′-8 3/16″ forward of the forward masthead light; stern light centered on the aft of the pilot house, 1′-4 1/16″ forward of amidships, and 40′-5¼″ above the main deck; and restricted in ability to maneuver (RAM) and not under command (NUC) lights rather than placing these lights on the centerline in a vertical line with the masthead lights, they may be placed 3′-3⅜″ outboard from the centerline, starting at a height of 34′-9 13/16″ above the main deck with vertical spacing between the RAM/NUC lights being 7′-2⅝″.
2024 | BEAR | This certificate authorized the placement of the vessel's sidelights on the elevated pilothouse, 22′-3 3/16″ above the main deck, 16′-5 11/16″ inboard from the sides of the vessel, and 3′-8 3/16″ forward of the forward masthead light; stern light centered on the aft of the pilot house, 1′-4 1/16″ forward of amidships, and 40′-5¼″ above the main deck; and restricted in ability to maneuver (RAM) and not under command (NUC) lights rather than placing these lights on the centerline in a vertical line with the masthead lights, they may be placed 3′-3⅜″ outboard from the centerline, starting at a height of 34′-9 13/16″ above the main deck with vertical spacing between the RAM/NUC lights being 7′-2⅝″.
2024 | OCEANOGRAPHER | This certificate authorized placement of the vessels masthead light on the main mast, 102′-7.25″ aft and 43′-9.75″ above the forward masthead light; stern light on the furthest aft location being the port side exhaust stack at a height of 39′-3.75″ from the main deck; and restricted in ability to maneuver (RAM) and not under command (NUC) lights, rather than placing these lights on the centerline in a vertical line with the masthead lights, they may be placed 2′-1″ off centerline starting 67′-10.5″ above the main deck and vertically spaced at 6′-6.75″.
2024 | DISCOVERER | This certificate authorized placement of the vessels after masthead light on the main mast, 102′-7.25″ aft and 43′-9.75″ above the forward masthead light; sternlight on the furthest aft location being the port side exhaust stack at a height of 39′-3.75″ from the main deck; and restricted in ability to maneuver (RAM) and not under command (NUC) lights—rather than placing these lights on the centerline in a vertical line with the masthead lights, they may be placed 2′-1″ off centerline starting 67′-10.5″ above the main deck and vertically spaced at 6′-6.75″.

The Chief of Prevention Division of the Eighth Coast Guard District, U.S. Coast Guard, certifies that the vessels listed above are of special construction or purpose and are unable to comply fully with the requirements of the provisions enumerated in the 72 COLREGS, without interfering with the normal operation, construction, or design of the vessels. The Chief of Prevention Division further finds and certifies that the listed vessels are in the closest possible compliance with the applicable provisions of the 72 COLREGS.⁵

⁵ 33 U.S.C. 1605(a); 33 CFR 81.9.

This notice is issued under authority of 33 U.S.C. 1605(c) and 33 CFR 81.18.

Dated: June 16, 2025.
J.E. Fothergill,
Commander, U.S. Coast Guard, Chief of Prevention, Acting, By direction of the Commander, Eighth Coast Guard District.

[FR Doc. 2025-11918 Filed 6-26-25; 8:45 am]

BILLING CODE 9110-04-P